DEPARTMENT OF HOUSING AND URBAN DEVELOPMENT

24 CFR Parts 5, 91, 92, 570, 574, 576, and 903

[Docket No. FR-6519-I-02]

RIN 2529-AB08

Affirmatively Furthering Fair Housing Revisions; Extension of Comment Period

AGENCY: Department of Housing and Urban Development; Office of General Counsel.

ACTION: Interim final rule; request for comments; extension of comment period.

SUMMARY: On March 3, 2025, the U.S. Department of Housing and Urban Development (HUD) published in the Federal Register an interim final rule entitled “Affirmatively Furthering Fair Housing Revisions.” The interim final rule provided for a 60-day comment period, which would have ended May 2, 2025. However, following a technical problem with regulations.gov that appeared to prohibit the electronic submission of comments on this rule beginning on or about April 28, HUD has determined that a seven-day extension of the comment period, until May 9, 2025, is appropriate. This extension will allow interested persons who may have tried unsuccessfully to submit comments additional time to do so.

DATES: The comment period for the interim final rule published on March 3, 2025, at 90 FR 11020, is extended. Comments should be received on or before May 9, 2025.

ADDRESSES: Interested persons are invited to submit comments regarding this notice to the Regulations Division, Office of General Counsel, Department of Housing and Urban Development, 451 7th Street SW, Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW, Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

FOR FURTHER INFORMATION CONTACT: Andrew Hughes, Chief of Staff, or Brian Miller, Acting General Counsel, U.S. Department of Housing and Urban Development, 451 7th Street SW, Washington, DC 20410; telephone number 202-402-2244 (this is not a toll-free number). HUD welcomes and is prepared to receive calls from individuals who are deaf or hard of hearing, as well as individuals with speech or communication disabilities. To learn more about how to make an accessible telephone call, please visit www.fcc.gov/consumers/guides/telecommunications-relay-service-trs.

SUPPLEMENTARY INFORMATION: On March 3, 2025, at 90 FR 11020, the U.S. Department of Housing and Urban Development (HUD) published in the Federal Register an interim final rule entitled “Affirmatively Furthering Fair Housing Revisions.”

The interim final rule provided for a 60-day comment period, which would have ended May 2, 2025. However, following a migration performed on the Federal eRulemaking Portal at www.regulations.gov on or about April 28, HUD discovered that the public comments were not being updated. HUD subsequently discovered that the ability to submit a public comment at www.regulations.gov did not appear to be operational. HUD informed staff at the Federal eRulemaking Portal and the issue has been resolved. Nevertheless, HUD has determined that a seven-day extension of the comment period, until May 9, 2025, is appropriate. This extension will allow interested persons who may have tried unsuccessfully to submit comments additional time to do so.

Amanda Wahlig,
Acting Associate General Counsel for Legislation and Regulations.

[FR Doc. 2025-07961 Filed 5-2-25; 4:15 pm]

BILLING CODE 4210-67-P